ENVIRONMENTAL PROTECTION AGENCY

[FRL OP-OFA-199]

Environmental Impact Statements; Notice of Availability

Responsible Agency: Office of Federal Activities, General Information 202-993-3272 or https://www.epa.gov/nepa.

Weekly receipt of Environmental Impact Statements (EIS) Filed November 17, 2025 10 a.m. EST Through November 21, 2025 10 a.m. EST Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250157, Final, FHWA, OR, Hood River White Salmon Interstate Bridge Replacement Project, Contact: Misty Thorsgard 503-316-2557.

EIS No. 20250158, Final, DOE, GA, ADOPTION—GENERIC—Edwin I. Hatch Nuclear Plant Units 1 and 2 License Renewal of Nuclear Plants Supplement 4 to NUREG-437 Altamaha River Appling County GA, Contact: Don Brown 202-913-3477.

The Department of Energy (DOE) has adopted the Nuclear Regulatory Commission's Final EIS No. 20010206 filed 06/07/2001 with the Environmental Protection Agency. The DOE was not a cooperating agency on this project. Therefore, republication of the document is necessary.

EIS No. 20250159, Final, DOE, GA, ADOPTION—GENERIC—License Renewal of Nuclear Plants Supplement 34 to NUREG-1437 Regarding Vogtle Electric Generating Plant Units 1 and 2 (VEGP) near Waynesboro GA, Contact: Don Brown 202-913-3477.

The Department of Energy (DOE) has adopted the Nuclear Regulatory Commission's Final EIS No. 20080522 filed 12/12/2008 with the Environmental Protection Agency. The DOE was not a cooperating agency on this project. Therefore, republication of the document is necessary.

EIS No. 20250160, Final, NRC, WY, Environmental Impact Statement for the Construction Permit Application for Kemmerer Power Station Unit 1: Final Report, Contact: Patricia Vokoun 301-415-3470.

EIS No. 20250161, Draft, BR, NM, Lower San Acacia Reach Improvements Project, Comment Period Ends: 01/12/2026, Contact: David (Sonny) Cooper 505-462-3599.

EIS No. 20250162, Final, TVA, AL, TVA Pumped Storage Hydropower, Review Period Ends: 01/05/2026, Contact: Elizabeth Smith 865-632-3053.

Dated: November 24, 2025.
Nancy Abrams,
Deputy Director, Federal Activities Division.

[FR Doc. 2025-21448 Filed 11-26-25; 8:45 am]

BILLING CODE 6560-50-P